DEPARTMENT OF DEFENSE

Department of the Navy

[Docket ID: USN-2010-0020]

Privacy Act of 1974; System of Records

AGENCY: Department of the Navy, DoD.

ACTION: Notice to alter a system of records.

SUMMARY: The Department of the Navy proposes to alter a system of records in its inventory of record systems subject to the Privacy Act of 1974 (5 U.S.C. 552a), as amended.

DATES: The changes will be effective on June 28, 2010 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Miriam Brown-Lam (202) 685-6545.

SUPPLEMENTARY INFORMATION: The Department of the Navy systems of records notice subject to the Privacy Act of 1974, (5 U.S.C. 552a), as amended, has been published in the Federal Register and is available from Mrs. Miriam Brown-Lam, Head, FOIA/Privacy Act Policy Branch, the Department of the Navy, 2000 Navy Pentagon, Washington, DC 20350-2000.

The proposed system report, as required by 5 U.S.C. 552a(r) of the Privacy Act of 1974, as amended, was submitted on April 9, 2010, to the House Committee on Government Report, the Senate Committee on Homeland Security and Governmental Affairs, and the Office of Management and Budget (OMB) pursuant to paragraph 4c of Appendix I to OMB Circular No. A-130, “Federal Agency Responsibilities for Maintaining records About Individual,” dated February 8, 1996 (February 20, 1996; 61 FR 6427).

Dated: May 21, 2010.
Mitchell S. Bryman,
Alternate OSD Federal Register Liaison Officer, Department of Defense.

NM01754-3

SYSTEM NAME:

DON Child and Youth Program (December 6, 2007; 72 FR 68867).

CHANGES:

* * * * *

SYSTEM LOCATION:

Delete entry and replace with “Navy: Navy Child and Youth Program or Family Service Centers located at various Navy activities both in CONUS and overseas. Official mailing addresses are published in the Standard Navy Distribution List.

Marine Corps: Commandant, Headquarters, U.S. Marine Corps, Personal and Family Readiness Division, 3280 Russell Road, MCB Quantico, VA 22134-5009, and all Marine Corps installations. Official Mailing addresses are published in the Standard Navy Distribution List.”

CATEGORIES OF INDIVIDUALS COVERED BY THE SYSTEM:

Delete entry and replace with “Members of the Armed Forces or Department of Defense personnel receiving services under the Navy Child and Youth Program or the Marine Corps Children, Youth, and Teen Program (CYTP).”

CATEGORIES OF RECORDS IN THE SYSTEM:

Delete entry and replace with “Name; sponsor's Social Security Number (SSN); case number; home address and telephone number; emergency contact information; Child Development Center and Family Child Care insurance coverage; names of parents and children; payment records; performance rating; complaints; background information, including medical, educational references, and prior work experience; Naval Criminal Investigative Service (NCIS) data; Family Advocacy Program records; base security; Federal, State and local agencies information related to screening, training, and implementation of the Child Development Homes; and reports of fire, safety, housing, and environmental health inspections. Children's records will also include developmental profiles.”

AUTHORITY FOR MAINTENANCE OF THE SYSTEM:

Delete entry and replace with “10 U.S.C. 5013, Secretary of the Navy; 10 U.S.C. 5041, Headquarters, Marine Corps; DoD Instruction 6060.2, Child Development Programs; DoD Instruction 6060.3, School Age Care Program; DoD Instruction 6060.4, Youth Programs; OPNAV Instruction 1700.9 series, Child and Youth Programs; Marine Corps Order P1710.30E, Children, Youth, and Teen Program (CYTP); and E.O. 9397 (SSN), as amended.”

* * * * *

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records contained therein may specifically be disclosed outside the DoD as a routine use pursuant to 5 U.S.C. 552a(b)(3) as follows:

To local, State and Federal officials involved in Child Care Services, if required, in the performance of their official duties relating to child abuse reporting and investigations.

The DoD “Blanket Routine Uses” that appear at the beginning of the Navy's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

POLICIES AND PRACTICES FOR STORING, RETRIEVING, ACCESSING, RETAINING, AND DISPOSING OF RECORDS IN THE SYSTEM:

STORAGE:

Delete entry and replace with “Paper files and electronic storage media.”

* * * * *

RETENTION AND DISPOSAL:

Delete entry and replace with “Records are kept for two years after individual is no longer in the Child Development Program and then destroyed by burning, shredding, macerating, pulping, degaussing, erasing, or other appropriate means.”

SYSTEM MANAGER(S) AND ADDRESS:

Delete entry and replace with “Navy Policy Official: Commander, Navy Installations Command, 716 Sicard Street, SE., Suite 1000, Washington Navy Yard, Washington, DC 20374-5140.

Marine Corps Policy Official: Marine Corps Policy Manager, Commandant, Headquarters, U.S. Marine Corps, Marine Corps Community Services, Personal and Family Readiness Division, 3280 Russell Road, MCB Quantico, VA 22134-5009.

SECONDARY MANAGERS:

Navy: Navy Child Development or Family Service Centers located at various Navy activities both in CONUS and overseas. Official mailing addresses are published in the Standard Navy Distribution List.

Marine Corps: Directors of Marine Corps Community Services (MCCS) offices located at each Marine Corps installation. Official mailing addresses are published in the Standard Navy Distribution List.”

NOTIFICATION PROCEDURES:

Delete entry and replace with “Individuals seeking to determine whether information about themselves is contained in this system should address written inquiries to the appropriate Navy or Marine Corps activity concerned. Official mailing addresses are published in the Standard Navy Distribution List.

Requests should contain full name of the sponsor, Social Security Number (SSN), and must be signed.

The system manager requires an original signature or a notarized signature as a means of proving the identity of the individual requesting access to the records.”

RECORD ACCESS PROCEDURES:

Delete entry and replace with “Individuals seeking access to information about themselves contained in this system should address written inquiries to the appropriate Navy or Marine Corps activity concerned. Official mailing addresses are published in the Standard Navy Distribution List.

Requests should contain full name of the sponsor, Social Security Number (SSN), and must be signed.

The system manager requires an original signature or a notarized signature as a means of proving the identity of the individual requesting access to the records.”

CONTESTING RECORD PROCEDURES:

Insert the words “Department of the” before the word “Navy's”.

RECORD SOURCE CATEGORIES:

Delete entry and replace with “Information in this system comes from sponsors seeking program services and/or applying as child care providers or as participants of the child development homes; background checks from Federal, State and local authorities or Naval Criminal Investigative Service; housing officers; information obtained from the Family Advocacy Program records; base security officers; base fire, safety and health officers; local family child care monitors and parents of children enrolled; health care providers, employers, and others providing information identified in the categories of records in the system.”

* * * * *

NM01754-3

SYSTEM NAME:

DON Child and Youth Program.

SYSTEM LOCATION:

Navy: Navy Child and Youth Program or Family Service Centers located at various Navy activities both in CONUS and overseas. Official mailing addresses are published in the Standard Navy Distribution List.

Marine Corps: Commandant, Headquarters, U.S. Marine Corps, Personal and Family Readiness Division, 3280 Russell Road, MCB Quantico, VA 22134-5009, and all Marine Corps installations. Official mailing addresses are published in the Standard Navy Distribution List.

CATEGORIES OF INDIVIDUALS COVERED BY THE SYSTEM:

Members of the Armed Forces or Department of Defense personnel receiving services under the Navy Child and Youth Program or the Marine Corps Children, Youth, and Teen Program (CYTP).

CATEGORIES OF RECORDS IN THE SYSTEM:

Name; sponsor's Social Security Number (SSN); case number; home address and telephone number; emergency contact information; Child Development Center and Family Child Care insurance coverage; names of parents and children; payment records; performance rating; complaints; background information, including medical, educational references, and prior work experience; Naval Criminal Investigative Service (NCIS) data; Family Advocacy Program records; base security; Federal, State and local agencies information related to screening, training, and implementation of the Child Development Homes; and reports of fire, safety, housing, and environmental health inspections. Children's records will also include developmental profiles.

AUTHORITY FOR MAINTENANCE OF THE SYSTEM:

10 U.S.C. 5013, Secretary of the Navy; 10 U.S.C. 5041, Headquarters, Marine Corps; DoD Instruction 6060.2, Child Development Programs; DoD Instruction 6060.3, School Age Care Program; DoD Instruction 6060.4, Youth Programs; OPNAV Instruction 1700.9 series, Child and Youth Programs; Marine Corps Order P1710.30E, Children, Youth, and Teen Program (CYTP); and E.O. 9397 (SSN), as amended.

PURPOSE(S):

To develop child care programs that meet the needs of children and families; provide child and family program eligibility and background information; and verify health status of children and verify immunizations.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

To local, State and Federal officials involved in Child Care Services, if required, in the performance of their official duties relating to child abuse reporting and investigations.

The DoD “Blanket Routine Uses” that appear at the beginning of the Navy's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

POLICIES AND PRACTICES FOR STORING, RETRIEVING, ACCESSING, RETAINING, AND DISPOSING OF RECORDS IN THE SYSTEM:

STORAGE:

Paper files and electronic storage media.

RETRIEVABILITY:

By the last name of the individual covered by the system and Social Security Number (SSN).

SAFEGUARDS:

Records are maintained in monitored or controlled areas accessible only to authorized personnel. Building or rooms are locked outside regular working hours. Computer files are protected by software programs that are password protected.

RETENTION AND DISPOSAL:

Records are kept for two years after individual is no longer in the Child Development Program and then destroyed by burning, shredding, macerating, pulping, degaussing, erasing, or other appropriate means.

SYSTEM MANAGER(S) AND ADDRESS:

Navy Policy Official: Commander, Navy Installations Command, 716 Sicard Street, SE., Suite 1000, Washington Navy Yard, Washington, DC 20374-5140.

Marine Corps Policy Official: Marine Corps Policy Manager, Commandant, Headquarters, U.S. Marine Corps, Marine Corps Community Services, Personal and Family Readiness Division, 3280 Russell Road, MCB Quantico, VA 22134-5009.

SECONDARY MANAGERS:

Navy: Navy Child Development or Family Service Centers located at various Navy activities both in CONUS and overseas. Official mailing addresses are published in the Standard Navy Distribution List.

Marine Corps: Directors of Marine Corps Community Services (MCCS) offices located at each Marine Corps installation. Official mailing addresses are published in the Standard Navy Distribution List.

NOTIFICATION PROCEDURE:

Individuals seeking to determine whether information about themselves is contained in this system should address written inquiries to the appropriate Navy or Marine Corps activity concerned. Official mailing addresses are published in the Standard Navy Distribution List.

Requests should contain full name of the sponsor, Social Security Number (SSN), and must be signed.

The system manager requires an original signature or a notarized signature as a means of proving the identity of the individual requesting access to the records.

RECORD ACCESS PROCEDURES:

Individuals seeking access to information about themselves contained in this system should address written inquiries to the appropriate Navy or Marine Corps activity concerned. Official mailing addresses are published in the Standard Navy Distribution List.

Requests should contain full name of the sponsor, Social Security Number (SSN), and must be signed.

The system manager requires an original signature or a notarized signature as a means of proving the identity of the individual requesting access to the records.

CONTESTING RECORD PROCEDURES:

The Department of the Navy's rules for accessing records, and for contesting contents and appealing initial agency determinations are published in Secretary of the Navy Instruction 5211.5; 32 CFR part 701; or may be obtained from the system manager.

RECORD SOURCE CATEGORIES:

Information in this system comes from sponsors seeking program services and/or applying as child care providers or as participants of the child development homes; background checks from Federal, State and local authorities or Naval Criminal Investigative Service; housing officers; information obtained from the Family Advocacy Program records; base security officers; base fire, safety and health officers; local family child care monitors and parents of children enrolled; health care providers, employers, and others providing information identified in the categories of records in the system.

EXEMPTIONS CLAIMED FOR THE SYSTEM:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this system has been promulgated in accordance with requirements of 5 U.S.C. 553(b)(1), (2), and (3), (c) and (e) and published in 32 CFR part 701, subpart G. For additional information contact the system manager.

[FR Doc. 2010-12687 Filed 5-26-10; 8:45 am]

BILLING CODE 5001-06-P